FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 13599NF.

Name: Pactrans Air & Sea, Inc.

Address: 951 Thorndale Avenue, Suite 961, Elk Grove Village, IL 60106.

Date Revoked: June 19, 2014.

Reason: Failed to maintain valid bonds.

License No.: 16693N.

Name: Horizon International Shipping, Inc.

Address: 10943 NW 122nd Street, Medley, FL 33178.

Date Surrendered: June 2, 2014.

Reason: Voluntary surrender of license.

License No.: 022408NF.

Name: Pactrans Global, LLC.

Address: 951 Thorndale Avenue, Bensenville, IL 60106.

Date Revoked: June 19, 2014.

Reason: Failed to maintain valid bonds.

License No.: 023084N.

Name: Crest Logistics Inc.

Address: 27911 Ridgecove Ct. N, Rancho Palos Verdes, CA 90275.

Date Surrendered: June 18, 2014.

Reason: Voluntary surrender of license.

License No.: 023649N.

Name: OQ Enterprises, Inc.

Address: 23990 Hesperian Blvd., Hayward, CA 94541.

Date Surrendered: June 25, 2014.

Reason: Voluntary surrender of license.

Sandra L. Kusumoto,
Director, Bureau of Certification and Licensing.

[FR Doc. 2014-15612 Filed 7-2-14; 8:45 am]

BILLING CODE 6730-01-P